ENVIRONMENTAL PROTECTION AGENCY

[OPPTS-00299; FRL-6746-1]

Proposed National Action Plan For Level 1 Pesticide; Notice of Availability

AGENCY: Environmental Protection Agency (EPA).

ACTION: Notice.

SUMMARY: EPA has developed a draft National Action Plan to address the remaining risks to the Level 1 priority Persistent, Bioaccumulative, and Toxic (PBT) pesticide pollutants. This proposed National Action Plan covers the chemical compounds: Aldrin, Dieldrin, Chlordane, DDT, Mirex and Toxaphene. These six pesticides are highly chlorinated, persistent organic pesticides that were once widely used in large quantities in the United States. Because of evidence supporting the adverse environmental and human health effects of these substance, including their probable carcinogenicity, the pesticide use of all of the Level 1 pesticides were canceled in the U.S. in the 1970's and 80's. Current data substantiate that these Level 1 pesticides are still ubiquitous in the environment, and at concentrations that may be of concern for both humans and wildlife. This plan, developed pursuant to the Agency 's Multimedia Strategy for Priority PBT Pollutants, addresses the remaining risks. This Notice announces the availability of the proposed Pesticide national Action for public review and comment.

DATES: Comments, identified by docket control number OPPTS -00299, must be received on or before December 1, 2000.

ADDRESSES: Comments may be submitted by mail, electronically, or in person. Please follow the detailed instructions for each method as provided in Unit I. of the SUPPLEMENTARY INFORMATION. To ensure proper receipt by EPA, it is imperative that you identify docket control number OPPTS -00299 in the subject line on the first page of your response.

FOR FURTHER INFORMATION CONTACT: For general information contact: Barbara Cunningham, Director, Office of Program Management and Evaluation, Office of Pollution Prevention and Toxics (7401), Environmental Protection Agency, 1200 Pennsylvania Ave., NW., Washington, DC 20460; telephone number: (202) 554-1404; e-mail address: TSCA-Hotline @epa.gov. For technical information contact: Paul Matthai, Pollution Prevention Division Mail Code 7409, Office of Pollution Prevention and Toxics, Environmental Protection Agency, 1200 Pennsylvania Ave., NW., Washington, DC 20460; telephone number: 202 260-3385; e-mail address:matthai.paul@epa.gov.

SUPPLEMENTARY INFORMATION:

I. General Information

A. Does This Action Apply to Me?

This action is directed to the public in general. This action may, however, be of interest to persons who have unused stocks of these canceled pesticide, such as farmers, or who live or work near contaminated reservoirs such as sediments, soil and localized contaminated industrial and pesticide dealership sites. Since other entities may also be interested, the Agency has not attempted to describe all the specific entities that may be affected by this action. If you have any questions regarding the applicability of this action to a particular entity, consult the technical person listed in the FOR FURTHER INFORMATION CONTACT.

B. How Can I Get Additional Information, Including Copies of This Document or Other Related Documents?

1. Electronically. You may obtain electronic copies of this document, and certain other related documents that might be available electronically, from the EPA Internet Home Page at http://www.epa.gov/pbt. To access this document, on the PBT Home Page select “What's new. ” You can also go directly to the Federal Register listings at http://www.epa.gov/fedrgstr/.

2. In person. The Agency has established an official record for this action under docket control number OPPTS -00299. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number for the Center is (202) 260-7099.

C. How and to Whom Do I Submit Comments?

You may submit comments through the mail, in person, or electronically. To ensure proper receipt by EPA, it is imperative that you identify docket control number OPPTS -00299 in the subject line on the first page of your response.

1. By mail. Submit your comments to: Document Control Office (7407), Office of Pollution Prevention and Toxics (OPPT), Environmental Protection Agency, 401 M St., SW., Washington, DC 20460.

2. In person or by courier. Deliver your comments to: OPPT Document Control Office (DCO) in East Tower Rm. G-099, Waterside Mall, 401 M St., SW., Washington, DC. The DCO is open from 8 a.m. to 4 p.m., Monday through Friday, excluding legal holidays. The telephone number for the DCO is (202) 260-7093.

3. Electronically. You may submit your comments electronically by e-mail to: oppt.ncic@epa.gov, or mail your computer disk to the addresess identified in this unit. Do not submit any information electronically that you consider to be CBI. Electronic comments must be submitted as an ASCII file avoiding the use of special characters and any form of encryption. Comments and data will also be accepted on standard disks in WordPerfect 6.1/8.0 or ASCII file format. All comments in electronic form must be identified by docket control number OPPTS-00299. Electronic comments may also be filed online at many Federal Depository Libraries.

D. How Should I Handle CBI Information That I Want to Submit To the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the technical person identified under FOR FURTHER INFORMATION CONTACT.

E. What Should I Consider as I Prepare My Comments for EPA?

We invite you to provide your views on the various options we propose, new approaches we have not considered, the potential impacts of the various options (including possible unintended consequences), and any data or information that you would like the Agency to consider during the development of the final action. You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the rule or collection activity.

7. Make sure to submit your comments by the deadline in this notice.

8. To ensure proper receipt by EPA, be sure to identify the docket control number assigned to this action in the subject line on the first page of your response. You may also provide the name, date, and Federal Register citation.

II. What Action Is the Agency Taking?

On November 16, 1998, EPA released its draft Agency-wide Multimedia Strategy for Priority Persistent, Bioaccumulative, and Toxic (PBT) Polutants (PBT Strategy). The goal of the PBT Strategy is to identify and reduce risks to human health and the environment from current and future exposures to priority PBT pollutants. This document serves as the Draft National Action Plan for the Level 1 pesticides; six of the 12 Level 1 priority PBT pollutants identified for the initial focus of action in the PBT Strategy.

Aldrin, dieldrin, chlordane, DDT, mirex, and toxaphene were once widely used in large quantities in the United States for applications, including: insect control on agricultural crops and cotton, treatment of livestock, control of ants, termite control in houses, and control of insect carriers of human diseases such as malaria. Because of evidence supporting the adverse environmental and human health effects of these substances, including their probable carcinogenicity, the pesticide uses of all of the Level 1 pesticides were canceled in the U.S. in the 1970's and 80's. In general, the remaining sources of Level 1 pesticides in the United States include: unused stocks of these canceled pesticides; contaminated reservoirs such as sediments, soil, and localized contaminated industrial and dealership sites; atmospheric transport and deposition (from both regional and international sources); and DDT present as an impurity (<0.1%) in Dicofol, a pesticide currently used in the U.S. and Canada.

Human exposure occurs mainly through the food chain and for the most exposed populations, is probably due to the consumption of contaminated fish. Potential risk and health consequences due to the Level 1 pesticides are of particular concern for certain human populations who have increased exposure (e.g., subsistence fishers) and/or increased susceptibility (e.g., the developing embryo/fetus, nursing infants, and children).

Data gathered in current multimedia monitoring efforts provided substantial evidence that the Level 1 pesticides are still ubiquitous in the environment, and at concentrations that may be of concern for both humans and wildlife. There are also significant quantities of unused, obsolete pesticide stocks stored throughout the U.S. and overseas which have the potential to cause serious environmental contamination and human health risks if accidentally released or not disposed of properly. This plan attempts to address these remaining risks by: (1) Supporting programs to collect and properly dispose of unwanted pesticides; (2) remediating nonpoint and reservoir sources like sediments, contaminated industrial sites, agricultural chemical dealer/storage sites, and past use sites on a priority basis; (3) reducing human exposure through public education, fish consumption advisories, and other outreach activities; (4) working with foreign governments to reduce or phase -out production and use of these substances, thereby reducing the risks from long -range transport; and (5) continued monitoring for environmental levels in fish, wildlife, and humans.

EPA considers stakeholder involvement essential to reaching the goals of the PBT Strategy. EPA is seeking stakeholder input and invites comment on this draft National Action Plan on the following topics and issues related to the PBT Level 1 pesticides:

1. Quantities of domestic unused stocks of pesticide products.

2. Historical trends or current soil residues (urban and agricultural).

3. Information on sites with significant Level 1 pesticide contamination.

4. Current indoor levels of pesticides used in residents.

5. Alternative disposal and soil/sediment remediation methods, and performance information.

6. Other sensitive or highly exposed human subpopulations.

7. Meaningful and feasible ways to address the problem of canceled pesticides in the environment.

8. Meaningful PBT goals, performance measures, and time frames for such accomplishments.

List of Subjects

Environmental protection.

Dated: October 20, 2000.
Susan H. Wayland,
Acting Assistant Administrator, Office of Prevention, Pesticides and Toxic Substances.

[FR Doc. 00-27928 Filed 10-31-00 8:45 am]

BILLING CODE 6560-50-S